DEPARTMENT OF COMMERCE

International Trade Administration

[A-570-937]

Citric Acid and Certain Citrate Salts From the People's Republic of China: Final Results of Antidumping Duty Administrative Review; 2013-2014

AGENCY: Enforcement and Compliance, International Trade Administration, Department of Commerce.

SUMMARY: On June 8, 2015, the Department of Commerce (the “Department”) published the preliminary results of the fifth administrative review (“AR”) of the antidumping duty order on citric acid and certain citrate salts (“citric acid”) from the People's Republic of China (“PRC”), in accordance with section 751(a)(1)(B) of the Tariff Act of 1930, as amended (“the Act”).¹ On October 27, 2015, the Department issued Post-Preliminary Results ² in this AR. The period of review (“POR”) for the AR is May 1, 2013, through April 30, 2014. The review covers three companies, RZBC Import & Export Co., Ltd. (“RZBC I&E”),³ Laiwu Taihe Biochemistry Co., Ltd. (“Taihe”), and Yixing Union Biochemical Ltd. (“Yixing Union”). Based on our analysis of the comments received, we made certain changes to our Post-Preliminary Results. The final dumping margins for this review are listed in the “Final Results” section below.

¹ See Citric Acid and Certain Citrate Salts From the People's Republic of China: Preliminary Results of Antidumping Duty Administrative Review; 2013-2014, 80 FR 32353 (June 8, 2015) (“Preliminary Results”).

² See Memorandum from Christian Marsh, Deputy Assistant Secretary for Antidumping and Countervailing Duty Operations, to Paul Piquado, Assistant Secretary for Enforcement and Compliance, regarding “Decision Memorandum for the Post-Preliminary Results of Antidumping Duty Administrative Review: Citric Acid and Certain Citrate Salts from the People's Republic of China; 2013-14,” dated October 27, 2015 (“Post-Preliminary Results”).

³ The Department initiated the fifth administrative review on RZBC Co., Ltd., RZBC I&E, and RZBC (Juxian) Co., Ltd. (collectively “RZBC”). Only RZBC I&E exported subject merchandise to the United States during the POR.

DATES: Effective date: December 14, 2015.

FOR FURTHER INFORMATION CONTACT: Krisha Hill, Maisha Cryor, or Aleksandras Nakutis, AD/CVD Operations, Office IV, Enforcement and Compliance, International Trade Administration, Department of Commerce, 14th Street and Constitution Avenue NW., Washington, DC 20230; telephone: (202) 482-4037, (202) 482-5831, or (202) 482-3147, respectively.

SUPPLEMENTARY INFORMATION:

Background

For a full history of the events that have taken place since the publication of the Preliminary Results and the Post-Preliminary Results, see the Issues and Decision Memorandum.⁴ The Issues and Decision Memorandum is a public document and is on file in the Central Records Unit (“CRU”), Room B8024 of the main Department of Commerce building, as well as electronically via Enforcement and Compliance's Antidumping and Countervailing Duty Centralized Electronic Service System (“ACCESS”). ACCESS is available to registered users at https://access.trade.gov and it is available to all parties in the CRU. In addition, parties can directly access a complete version of the Issues and Decision Memorandum on the internet at http://enforcement.trade.gov/frn/index.html. The signed Issues and Decision Memorandum and the electronic version of the Issues and Decision Memorandum are identical in content.

⁴ See Memorandum from Christian Marsh, Deputy Assistant Secretary, Antidumping and Countervailing Duty Operations, to Paul Piquado, Assistant Secretary for Enforcement and Compliance, regarding “Issues and Decision Memorandum for the Final Results of Antidumping Duty Administrative Review: Citric Acid and Certain Citrate Salts from the People's Republic of China,” issued concurrently with this notice (“Issues and Decision Memorandum”).

Scope of the Order

The merchandise covered by this order is citric acid and certain citrate salts from the PRC. The product is currently classified under subheadings 2918.14.0000, 2918.15.1000, 2918.15.5000, and 3824.90.9290 of the Harmonized Tariff System of the United States (HTSUS). Although the HTSUS subheadings are provided for convenience and customs purposes, the written description of merchandise subject to the scope is dispositive. For a full description of the scope of the order, see Issues and Decision Memorandum.

Analysis of Comments Received

All issues raised in parties' case and rebuttal briefs are addressed in the Issues and Decision Memorandum. In an Appendix to this notice, we have provided a list of the issues raised by parties.

Changes Since the Post-Preliminary Results

Based on our review of the record and comments received from interested parties regarding our Preliminary Results and Post-Preliminary Results, we have made certain revisions to the margin calculations for RZBC I&E and Taihe. Further, the Final Surrogate Value Memorandum contains descriptions of our changes to the surrogate values.⁵

⁵ See Memorandum from Krisha Hill and Maisha Cryor to Robert Bolling regarding, “Final Results of the Fifth Administrative Review of Citric Acid and Certain Citrate Salts from the People's Republic of China: Surrogate Value Memorandum,” issued concurrently with this memorandum (“Final Surrogate Value Memorandum”).

• We deducted letter of credit costs from brokerage and handling expense for both respondents.

• We made adjustments to labor and limestone consumption in Taihe's co-product calculations.

• We made adjustments to the export subsidy calculation for RZBC I&E.

Final Determination of No Shipments

In the Preliminary Results, the Department preliminarily determined that Yixing Union did not have any reviewable transactions during the POR. We have not received any information to contradict this determination. Therefore, the Department determines that Yixing Union did not have any reviewable entries of subject merchandise during the POR, and will issue appropriate instructions that are consistent with our “automatic assessment” clarification, for these final results.⁶

⁶ See Non-Market Economy Antidumping Proceedings: Assessment of Antidumping Duties, 76 FR 65694 (October 4, 2011) (“Assessment Practice Refinement”).

Final Results

We determine that the following weighted-average dumping margins exist for the POR:

Exporter | Weighted- average dumping margin (percent)
RZBC Import & Export Co., Ltd | 0.00
Laiwu Taihe Biochemistry Co., Ltd | 6.61

Assessment Rates

Pursuant to section 751(a)(2)(C) of the Act and 19 CFR 351.212(b), the Department has determined, and U.S. Customs and Border Protection (“CBP”) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise.⁷ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

⁷ See Antidumping Proceedings: Calculation of the Weighted-Average Dumping Margin and Assessment Rate in Certain Antidumping Proceedings: Final Modification, 77 FR 8101, 8103 (February 14, 2012).

Pursuant to a refinement in the Department's non-market economy (“NME”) practice, for entries that were not reported in the U.S. sales databases submitted by companies individually examined during this review, the Department will instruct CBP to liquidate such entries at the PRC-wide rate (i.e., 156.87 percent). In addition, if the Department determines that an exporter under review had no shipments of the subject merchandise, any suspended entries that entered under that exporter's case number (i.e., at that exporter's rate) will be liquidated at the PRC-wide rate.⁸

⁸ For a full discussion of this practice, see Assessment Practice Refinement, 76 FR at 65694.

Cash Deposit Requirements

The following cash deposit requirements will be effective upon publication of the final results of this administrative review for shipments of the subject merchandise from the PRC entered, or withdrawn from warehouse, for consumption on or after the publication date, as provided by section 751(a)(2)(C) of the Act: (1) For Yixing Union, which claimed no shipments, the cash deposit will remain unchanged from the rate assigned to Yixing Union in the most recently completed review of the company; (2) for the exporters listed above, the cash deposit rate will be the rate listed for each exporter in the table in the “Final Results” section of this notice; (3) for previously investigated or reviewed PRC and non-PRC exporters that received a separate rate in a prior segment of this proceeding, the cash deposit rate will continue to be the existing exporter-specific rate; (4) for all PRC exporters of subject merchandise that have not been found to be entitled to a separate rate, the cash deposit rate will be that for the PRC-wide entity established in the final determination of the less than fair value investigation (i.e., 156.87 percent); and (5) for all non-PRC exporters of subject merchandise which have not received their own rate, the cash deposit rate will be the rate applicable to the PRC exporter that supplied that non-PRC exporter. These deposit requirements, when imposed, shall remain in effect until further notice.

Disclosure

We intend to disclose the calculations performed within five days of the date of publication of this notice to parties in this proceeding in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Notification Regarding Administrative Protective Order

This notice also serves as a reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Dated: December 7, 2015.
Paul Piquado,
Assistant Secretary for Enforcement and Compliance.

Appendix—Issues and Decision Memorandum

Summary

List of Issues

Background

Scope of the Order

Discussion of the Issues

Issues

Comment 1: Whether the Department Should Select Indonesia as the Primary Surrogate Country

Comment 2: Whether the Department's Approach to the Surrogate Country Selection Process Is Counter to its Policy, Practice, and Statutory Obligations

Comment 3: Whether the Department Should Rely on the Aditya Birla Financial Statements to Calculate the Financial Ratios

Comment 4: Whether the Surrogate Financial Ratios Should be Based on PT Budi's Segment Financial Information

Comment 5: Whether the Department Should Assign Surrogate Values to Respondents' Energy Factors of Production Values

Comment 6: The Weight Denominator for Brokerage & Handling and Inland Freight

Comment 7: Whether to Deduct Letter of Credit Cost from the Brokerage and Handling Surrogate Value Calculation

Comment 8: Whether the Department Should Value Corn Using Indonesian Import Prices or, Alternatively, Recalculate the Thai Import Prices to Exclude Aberrational Data

Comment 9: Distance to Calculate Inland Freight

Comment 10: Whether the Department Should Make Certain Revisions to its Surrogate Value for Sludge

Comment 11: Whether to Value RZBC's High Protein Scrap as a Co-Product

Comment 12: Whether the Department Used Incorrect Rates to Calculate RZBC I&E's Export Subsidy Adjustment

Comment 13: Whether the Department Should Treat Taihe's Corn Feed as a By-Product

Comment 14: Whether the Department Should Make Certain Revisions to Taihe's Co-Product Calculation

Comment 15: Whether the Application of Differential Pricing Methodology to Taihe's Sales is Contrary to Law and Otherwise Unsupported by Substantial Evidence on the Record

Recommendation

[FR Doc. 2015-31427 Filed 12-11-15; 8:45 am]

BILLING CODE 3510-DS-P